Title 3—

The President

Proclamation 9043 of October 18, 2013

National Character Counts Week, 2013

By the President of the United States of America

A Proclamation

As Americans, we are bound together by a set of ideals put forth by our Founders—that we are all created equal, that we possess certain unalienable rights, including the rights to life, liberty, and the pursuit of happiness, and that, above all, we are one people. During National Character Counts Week, we reflect on the ways we support one another, the ways we come together and seek common ground, and the lessons we teach our children about what citizenship means in the United States of America.

Nowhere is our Nation's strength more evident than in the men and women in uniform who embody the American spirit of selflessness, courage, and sacrifice. Across the globe and here at home, they and their families face challenges most of us will never fully understand so all of us can live in freedom. Our public servants too, and our teachers, nurses, and workers, toil without fanfare so the people of this country can count on a secure homeland and a growing economy, a healthy future, and a chance at success for their children.

The children we raise today are surrounded by proud examples of integrity, and moral courage, but it is our task as parents, community members, and leaders to teach them not only the skills they need to succeed, but also the values that keep our country strong. This week, we reaffirm our commitment to helping our children turn away from bullying, harassment, and discrimination, and to giving them the confidence and integrity to stand up for each other, imagine a brighter future, and realize their dreams.

NOW, THEREFORE, I, BARACK OBAMA, President of the United States of America, by virtue of the authority vested in me by the Constitution and the laws of the United States, do hereby proclaim October 20 through October 26, 2013, as National Character Counts Week. I call upon public officials, educators, parents, students, and all Americans to observe this week with appropriate ceremonies, activities, and programs.

IN WITNESS WHEREOF, I have hereunto set my hand this eighteenth day of October, in the year of our Lord two thousand thirteen, and of the Independence of the United States of America the two hundred and thirty-eighth.

[FR Doc. 2013-24986

Filed 10-22-13; 8:45 am]

Billing code 3295-F4